ENVIRONMENTAL PROTECTION AGENCY

[FRL-9668-5]

Workshop on Using Mode of Action To Support the Development of a Multipollutant Science Assessment

AGENCY: Environmental Protection Agency (EPA).

ACTION: Notice of Workshop.

SUMMARY: EPA is announcing a workshop, organized by EPA's National Center for Environmental Assessment (NCEA) within the Office of Research and Development, to explore the possible ways by which mode-of-action and toxicity pathways approaches may contribute to interpretation of cumulative human health risks of the criteria air pollutants. The workshop will be held on May 31, 2012, in Research Triangle Park, North Carolina and will be open to attendance by interested public observers on a first-come, first-served basis up to the limits of available space.

DATES: The workshop will be held on May 31, 2012, beginning at 8:00 a.m. and ending at 5:00 p.m.

ADDRESSES: The workshop will be held in the auditorium of EPA's main campus, 109 T.W. Alexander Drive, Research Triangle Park, North Carolina. An EPA contractor, ICF International, is providing logistical support for the workshop.

FOR FURTHER INFORMATION CONTACT: Questions regarding information, registration, and logistics for the workshop should be directed to Whitney Kihlstrom, ICF International, Conference Coordinator, 2222 East NC-54, Suite 480, Durham, North Carolina 27713; telephone: 919-293-1646; facsimile: 919-293-1645; email: EPA_Multipollutant@icfi.com. Questions regarding the scientific and technical aspects of the workshop should be directed to Dr. Beth Owens, telephone: 919-541-0600; facsimile: 919-541-2895; email: owens.beth@epa.gov.

SUPPLEMENTARY INFORMATION:

I. Summary of Information About the Workshop

Sections 108 and 109 of the Clean Air Act require periodic review and, if appropriate, revisions of the National Ambient Air Quality Standards (NAAQS) and the air quality criteria on which they are based. As a part of this process, NCEA reviews and integrates scientific information from across scientific disciplines in drawing conclusions related to exposure and health impacts of each of the criteria air pollutants in the Integrated Science Assessment (ISA). EPA is planning the development of a companion assessment to the ISAs, the Multipollutant Science Assessment, whereby the health effects of exposure to a mixture of pollutants, principally the criteria air pollutants, may be systematically evaluated. To this end, EPA conducted a workshop in February 2011, entitled Multipollutant Science and Risk Analysis: Addressing Multiple Pollutants in the NAAQS Review Process. One of the sessions focused on using mode-of-action and toxicity pathways approaches to interpret health evidence from toxicological and controlled human exposure studies of criteria air pollutants. NCEA is planning to further discuss issues related to the interpretation and organization of evidence used to characterize health effects resulting from exposure to real-world mixtures of air pollutants at the one-day workshop on May 31, 2012. The goal of the workshop is to explore the possible ways by which mode-of-action and toxicity pathways approaches may contribute to interpretation of cumulative human health risks of the criteria air pollutants. Discussion points will include current EPA plans related to an approach in which experimental health results are organized around key events or biological pathways that are linked to endpoints and outcomes of interest. In addition, discussion will focus on the means by which information from epidemiologic panel studies can be integrated into this framework, as well as how mixtures have been evaluated in other media and by other groups.

II. Workshop Information

Members of the public may attend the workshop as observers. Space is limited, and reservations will be accepted on a first-come, first-served basis.

Dated: April 20, 2012.
Darrell A. Winner,
Acting Director, National Center for Environmental Assessment.

[FR Doc. 2012-10805 Filed 5-3-12; 8:45 am]

BILLING CODE 6560-50-P